DEPARTMENT OF THE INTERIOR

Bureau of Reclamation

[RR01041000, 17XR0680G3, RX.16786921.2000100]

Notice To Extend the Public Comment Period for the Notice of Intent To Prepare the Columbia River System Operations Environmental Impact Statement

AGENCY: Bureau of Reclamation, Interior.

ACTION: Notice of extension.

SUMMARY: The U.S. Army Corps of Engineers, Bonneville Power Administration, and Bureau of Reclamation (Action Agencies) are extending the public comment period for the Notice of Intent (NOI) to Prepare the Columbia River System Operations Environmental Impact Statement (EIS) to Tuesday February 7, 2017. The NOI and Notice of Public Meetings was published in the Federal Register on Friday, September 30, 2016. The public comment period for the NOI was originally scheduled to end on Tuesday, January 17, 2017.

DATES: Comments on the NOI will be accepted until close of business on Tuesday February 7, 2017.

ADDRESSES: Written comments, requests to be placed on the project mailing list, and requests for information may be mailed by letter to U.S. Army Corps of Engineers Northwestern Division Attn: CRSO EIS, P.O. Box 2870, Portland, OR 97208-2870; or online at comment@crso.info. All comment letters will be available via the project Web site at www.crso.info. All personally identifiable information (for example, name, address, etc.) voluntarily submitted by the commenter may be publicly accessible. Do not submit confidential business information or otherwise sensitive or protected information.

FOR FURTHER INFORMATION CONTACT: Call the toll-free telephone 1-(800) 290-5033, or email info@crso.info. Additional information can be found at the project Web site: www.crso.info.

SUPPLEMENTARY INFORMATION: In response to requests for an extension, the Action Agencies are extending the close of the public comment period for the NOI to Prepare the Columbia River System Operations Environmental Impact Statement to Tuesday February 7, 2017.

Public Disclosure

Before including your address, phone number, email address, or other personal identifying information in your comment, you should be aware that your entire comment—including your personal identifying information—may be made publicly available at any time. While you can ask us in your comment to withhold your personal identifying information from public review, we cannot guarantee that we will be able to do so.

Dated: December 6, 2016.
Lorri J. Lee,
Regional Director—Pacific Northwest Region, Bureau of Reclamation.

[FR Doc. 2016-31621 Filed 12-30-16; 8:45 am]

BILLING CODE 4332-90-P